DEPARTMENT OF AGRICULTURE

Agricultural Marketing Service

[Doc. No. AMS-TM-08-0021; TM-08-04]

Notice of Meeting of the National Organic Standards Board

AGENCY: Agricultural Marketing Service, USDA.

ACTION: Notice.

SUMMARY: In accordance with the Federal Advisory Committee Act, as amended, the Agricultural Marketing Service (AMS) is announcing a forthcoming meeting of the National Organic Standards Board (NOSB).

DATES: The meeting dates are Tuesday, May 20, 2008, 11 a.m. to 5 p.m.; Wednesday, May 21, 2008, 8 a.m. to 5 p.m.; and Thursday, May 22, 2008, 8 a.m. to 5 p.m. Requests from individuals and organizations wishing to make oral presentations at the meeting are due by the close of business on May 5, 2008.

ADDRESSES: The meeting will take place at The Holiday Inn Inner Harbor Hotel, 301 W. Lombard Street, Baltimore, MD 21201.

• Requests for copies of the NOSB meeting agenda, may be sent to Ms. Valerie Frances, Executive Director, NOSB, USDA-AMS-TMP-NOP, 1400 Independence Ave., SW., Room 4008-So., Ag Stop 0268, Washington, DC 20250-0268. The NOSB meeting agenda and proposed recommendations may also be viewed at http://www.ams.usda.gov/nop.

• Comments on proposed NOSB recommendations may be submitted by May 5, 2008 in writing to Ms. Frances at either the postal address above or via the internet at http://www.regulations.gov only. The comments should identify Docket No. AMS-TM-08-0021. It is our intention to have all comments to this notice whether they are submitted by mail or the internet available for viewing on the http://www.regulations.gov Web site.

• Requests to make an oral presentation at the meeting may also be sent by May 5, 2008 to Ms. Valerie Frances at the postal address above, by email at valerie.frances@usda.gov, via facsimile at (202) 205-7808, or phone at (202) 720-3252.

FOR FURTHER INFORMATION CONTACT: Valerie Frances, Executive Director, NOSB, National Organic Program (NOP), (202) 720-3252, or visit the NOP Web site at: http://www.ams.usda.gov/nop.

SUPPLEMENTARY INFORMATION: Section 2119 (7 U.S.C. 6518) of the Organic Foods Production Act of 1990 (OFPA), as amended (7 U.S.C. 6501 et seq.) requires the establishment of the NOSB. The purpose of the NOSB is to make recommendations about whether a substance should be allowed or prohibited in organic production or handling, to assist in the development of standards for substances to be used in organic production, and to advise the Secretary on other aspects of the implementation of the OFPA. The NOSB met for the first time in Washington, DC, in March 1992, and currently has six subcommittees working on various aspects of the organic program. The committees are: Compliance, Accreditation, and Certification; Crops; Handling; Livestock; Materials; and Policy Development.

In August of 1994, the NOSB provided its initial recommendations for the NOP to the Secretary of Agriculture. Since that time, the NOSB has submitted 154 addenda to its recommendations and reviewed more than 327 substances for inclusion on the National List of Allowed and Prohibited Substances. The Department of Agriculture (USDA) published its final National Organic Program regulation in the Federal Register on December 21, 2000, (65 FR 80548). The rule became effective April 21, 2001.

In addition, the OFPA authorizes the National List of Allowed and Prohibited Substances and provides that no allowed or prohibited substance would remain on the National List for a period exceeding 5 years unless the exemption or prohibition is reviewed and recommended for renewal by the NOSB and adopted by the Secretary of Agriculture. This expiration is commonly referred to as sunset of the National List. The National List appears at 7 CFR Part 205, Subpart G.

The principal purposes of the NOSB meeting are to provide an opportunity for the NOSB to receive an update from the USDA/NOP and hear progress reports from NOSB committees regarding work plan items and proposed action items. The last meeting of the NOSB was held on November 28-30, 2007 in Arlington, VA.

At its last meeting, the Board recommended the addition of 3 materials to the National List § 205.601 for use in crops and § 205.605 for use in handling. In addition, the Board also nearly completed the sunset review process for 11 of the 13 materials for use in crops and handling which are due to expire on November 3, 2008 and November 4, 2008. Of these 11 materials, there are 9 substances for use in crops and handling placed on the National List on November 3, 2003, and are scheduled to expire on November 3, 2008. Four substances for use in handling were placed on the National List on November 4, 2003, and are scheduled to expire on November 4, 2008. They will be making final recommendations on these 11 materials at this meeting. Two forms of Tartaric acid, for use in handling in § 205.605(a) and (b) for which the Board has not completed its review, were placed on the National List on November 3, 2003, and are scheduled to expire on November 3, 2008. The sunset review process for these two forms of Tartaric acid must be concluded no later than November 3, 2008. If renewal is not concluded by this date, the use or prohibition of these 2 forms of Tartaric acid will no longer be in compliance with the National Organic Program.

The Policy Development Committee will present recommendations regarding revisions to the NOSB Policy and Procedures Manual and the Guide for new NOSB members as well as discuss their on-going collaboration with the NOP to review the NOP responses to prior NOSB recommendations.

The Compliance, Accreditation, and Certification Committee and the Crops Committee will jointly present their recommendation offering guidance for accredited certifying agents regarding annual commercial availability determinations for organic seed sourcing by farmers under § 205.204.

The Crops Committee will present recommendations on the materials Tetracycline, Cheesewax, Dextrin, and Sorbitol octanoate petitioned for use on § 205.601. The Committee will also present their recommendations on the continued use or prohibition of Copper sulfate, Ozone gas, Peracetic acid, and EPA List 3—Inerts of unknown toxicity, with their respective annotations and limitations. These exemptions are due to expire on November 3, 2008, from § 205.601. The Committee will also present their recommendation on the continued use or prohibition of Calcium chloride for use as a brine-sourced foliar spray. Calcium chloride is otherwise considered a prohibited natural substance in § 205.602 and is also due to expire on November 3, 2008.

The Crops Committee and the Livestock Committee will jointly present their recommendation on the development of standards for organic aquatic plants in organic aquaculture.

The Livestock Committee will present its recommendation on the material Fenbendazole petitioned for use in § 205.603. The Committee will present its recommendations on the petition to remove the expiration date of October 21, 2008 on the following three substances: DL-Methionine, DL-Methionine-Hydroxy Analog; and DL-Methionine-Hydroxy Analog Calcium—for use only in organic poultry production in § 205.603. The Committee will also present recommendations on the use of fish feed and open net pens in regards to the development of organic aquaculture standards for finfish.

The Handling Committee will present their recommendations on the materials Sodium chlorite, acidified and Calcium, derived from seaweed petitioned for inclusion in § 205.605 for use in organic products. The Committee will present their recommendations on the 24 materials Black Pepper, Buck Hull Powder, Camu Camu Extract, Caramel Color, Chinese Thistle Daisy Extract, Chlorella algae, Codonopsis Root Extract, Dumontiacae algae, Ginger Root Extract, Jujube Fruit Extract, Kombu seaweed, Ligusticum Root Extract, Marsala Cooking Wine, Oatbran, Okra, Pectin, low methoxy, non-amidated, Peony Root Extract, Polygala Root Extract, Polygonum Root Extract, Poria Fungus Extract, Rehmannia Extract, Sherry Cooking Wine, Tangerine Peel Extract, and Tragacanth Gum petitioned for inclusion in § 205.606 for use in organic products depending on final commercial availability determinations performed by accredited certifying agents.

The Handling Committee will present their recommendations on the continued use or prohibition of the material exemptions in § 205.605(a) which is Agar-agar and due to expire on November 3, 2008, and Animal enzymes, Calcium sulfate, and Glucono delta-lactone, with their respective annotations and limitations, due to expire on November 4, 2008. The Committee will also present their recommendations on the continued use or prohibition of the material exemption in § 205.605(b) which is Cellulose with its respective annotations and limitations, due to expire on November 4, 2008. They will also present their recommendations on the continued use or prohibition of the material exemptions for the two forms of Tartaric acid in § 205.605(a) and (b) which are due to expire on November 3, 2008.

The Meeting is Open to the Public. The NOSB has scheduled time for public input for Tuesday, May 20, 2008, from 1 p.m. to 5 p.m., Wednesday, May 21, 2008, from 3:45 p.m. to 5 p.m., and Thursday, May 22, 2008, from 8 a.m. to 9:30 a.m. Individuals and organizations wishing to make oral presentations at the meeting may forward their requests by mail, facsimile, email, or phone to Valerie Frances as listed in ADDRESSES above. Individuals or organizations will be given approximately 5 minutes to present their views. All persons making oral presentations are requested to provide their comments in writing. Written submissions may contain information other than that presented at the oral presentation. Anyone may submit written comments at the meeting. Persons submitting written comments are asked to provide 30 copies.

Interested persons may visit the NOSB portion of the NOP Web site at http://www.ams.usda.gov/nop to view available meeting documents prior to the meeting, or visit http://www.regulations.gov to submit and view comments as provided for in ADDRESSES above. Documents presented at the meeting will be posted for review on the NOP Web site approximately 6 weeks following the meeting.

Dated: April 1, 2008.
Lloyd C. Day,
Administrator, Agricultural Marketing Service.

[FR Doc. 08-1097 Filed 4-1-08; 4:21pm]

BILLING CODE 3410-02-P